DEPARTMENT OF TRANSPORTATION

Federal Aviation Administration

14 CFR Part 39

[Docket No. FAA-2005-20847; Directorate Identifier 2004-NE-35-AD; Amendment 39-14261; AD 2005-18-20]

RIN 2120-AA64

Airworthiness Directives; Goodrich De-icing and Specialty Systems “FASTprop” Propeller De-icers

AGENCY: Federal Aviation Administration (FAA), Department of Transportation (DOT).

ACTION: Final rule.

SUMMARY: The FAA is adopting a new airworthiness directive (AD) for Goodrich De-icing and Specialty Systems “FASTprop” propeller de-icers, part numbers P4E1188 series, P4E1601 series, P4E2200 series, P4E2271-10, P4E2575-7, P4E2575-10, P4E2598-10, P5855BSW, P6199SW, P6592SW, P6662SW, and P6975-11, installed. This AD requires inspection, repair, or replacement of those “FASTprop” propeller de-icers that fail daily visual checks. This AD results from reports of Goodrich “FASTprop” propeller de-icers becoming loose or debonded, and detaching from propeller blades during operation.

DATES: This AD becomes effective October 14, 2005. The Director of the Federal Register approved the incorporation by reference of certain publications listed in the regulations as of October 14, 2005.

ADDRESSES: Contact Goodrich De-icing and Specialty Systems, 1555 Corporate Woods Parkway, Uniontown, Ohio 44685, telephone (330) 374-3743, for the service information referenced in this AD.

You may examine the AD docket on the Internet at http://dms.dot.gov or in Room PL-401 on the plaza level of the Nassif Building, 400 Seventh Street, SW., Washington, DC.

FOR FURTHER INFORMATION CONTACT: Melissa T. Bradley, Aerospace Engineer, Chicago Aircraft Certification Office, FAA, 2300 East Devon Avenue, Des Plaines, IL 60018-4696; telephone (847) 294-8110; fax (847) 294-7834.

SUPPLEMENTARY INFORMATION: The FAA proposed to amend 14 CFR part 39 with a proposed airworthiness directive (AD). The proposed AD applies to Goodrich De-icing and Specialty Systems “FASTprop” propeller de-icers, part numbers P4E1188 series, P4E1601 series, P4E2200 series, P4E2271-10, P4E2575-7, P4E2575-10, P4E2598-10, P5855BSW, P6199SW, P6592SW, P6662SW, and P6975-11. We published the proposed AD in the Federal Register on April 6, 2005 (70 FR 17361). That action proposed to require inspection, repair, or replacement of those “FASTprop” propeller de-icers that fail visual checks before the first flight each day.

Examining the AD Docket

You may examine the docket that contains the AD, any comments received, and any final disposition in person at the Docket Management System (DMS) Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We have considered the one comment received.

The commenter states that we need to clarify the compliance section, and requests that any pilot be able to make required logbook entries after the visual check of propeller de-icers regardless of how the airplane is operated, whether under 14 CFR part 91, part 135, or part 121. The commenter interprets Goodrich De-icing and Specialty Systems Alert Service Bulletin (ASB) No. 30-60-00-1, dated November 15, 2004, as only allowing private pilots operating under 14 CFR part 91 to make the required logbook entries.

We agree that we need to clarify the compliance section. Accordingly, we added the following statement to the compliance section of this AD: “Properly certificated maintenance personnel must perform the initial inspection required in this AD. Thereafter, the pilot or properly certificated maintenance personnel may perform the repetitive visual check.”

Conclusion

We have carefully reviewed the available data, including the comment received, and determined that air safety and the public interest require adopting the AD with the changes described previously. We have determined that these changes will neither increase the economic burden on any operator nor increase the scope of the AD.

Costs of Compliance

We estimate that 3,400 Goodrich propeller de-icers are installed on airplanes of U.S. registry and will be affected by this AD. We also estimate that it will take about:

• Two minutes per propeller blade to perform the preflight visual check; and

• Five minutes per propeller blade to perform the inspection of de-icers that fail the visual check; and

• One-half work hour to replace a propeller de-icer.

The average labor rate is $65 per work hour. Required parts will cost about $110.00 per replacement propeller de-icer. The manufacturer has advised us that replacement de-icers will be provided at no cost to the operators. Based on these figures, not including free de-icer hardware supplied by the manufacturer, we estimate the total cost of the AD to U.S. operators to be $510,240.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-18-20 Goodrich De-icing and Specialty Systems: Amendment 39-14261. Docket No. FAA-2005-20847; Directorate Identifier. 2004-NE-35-AD.

Effective Date

(a) This airworthiness directive (AD) becomes effective October 14, 2005.

Affected ADs

(b) None.

Applicability

(c) This AD applies to Goodrich De-icing and Specialty Systems “FASTprop” propeller de-icers, part numbers (P/Ns) P4E1188 series, P4E1601 series, P4E2200 series, P4E2271-10, P4E2575-7, P4E2575-10, P4E2598-10, P5855BSW, P6199SW, P6592SW, P6662SW, and P6975-11, installed. These propeller de-icers are installed on, but not limited to, the airplanes listed in Table 1 of this AD.

Table 1.—Goodrich “FASTprop” Propeller De-Icers
De-icer P/N | Installed on, but not limited to
P4E1188-2 | Metal propellers operated up to 2,900 rpm on:
| Cessna 210E, 210F, 210G, 210H, 210J, 210K, 210L, T210F, T210G, T210H, T210J, T210K, and T210L.
| With Supplemental Type Certificate (STC) SA1-502 on Raytheon (Beech) D18C, D18S, E18S, G18S, H18, C45G, C45H, TC45G, and TC45H.
P4E1188-3 | Metal propellers operated up to 2,900 rpm on:
| Raytheon (Beech) D18C, D18S, E18S, E18S-9700, G18S, H18, C-45G, C-45H, C-45J, TC-45G. TC-45H, TC-45J (SNB-5), and JRB-6.
| With STC SA1-503 on Raytheon (Beech), E50, F50, G50, H50, J50, and 65.
| With STC SA15EA on Raytheon (Beech) E50, F50, G50, H50, J50, 65, and 65-80.
| Raytheon (Beech) 55, B55, D55, D55A, E55, 95-C55, 95-C55A, 58, 95-55, 95-A55, 95-B55, 56TC, 60, 65, 65-80, 65-90, 65-A90, B90, C90, 99, 99A, A99, A99A, 100, and A100.
| With STC SA1-506 on Cessna 310.
| With McCauley props on Cessna 310, 320, 340, 401, 402, 411, 414, and 421.
| With STC SA2424WE on Cessna 402.
| With STC SA132EA on Twin Commander (Gulfstream) 560A, 560E, 680, 680E, and 720.
| With STC SA179EA on Twin Commander (Gulfstream) 560F, 680FL, 680FL(P), and 680-F.
| With STC SA1-520 on Twin Commander (Gulfstream) 560A, 560E 680, 680E, and 720.
| On the following models equipped with 90-amp generator: Twin Commander (Gulfstream) 500B, 500S, and 500U.
| With STC SA1-607 on Twin Commander (Gulfstream) 500A.
| With STC SA2478SW on Twin Commander (Gulfstream) 500.
| With STC SA2891WE or STC SA2691WE on Twin Commander (Gulfstream) 680F, 680FP, and 680FL(P).
| Twin Commander (Gulfstream) 680V, 680T, 680W, and 681.
| Mitsubishi Heavy Industries MU-2 series.
| With STC SA195EA on Piper PA-23-250, E23-250 (serial number (SN) 27-2505 up).
| Piper PA-31 (SN 31-5 up), PA-31-300 (SN 31-5 up), PA-31-325 (SN31-5 up), and PA-31-350 (SN 31-5001 up).
P4E1188-4 | Metal propellers operated up to 2,900 rpm on:
| B-N Group Ltd. (Britten Norman) BN-2, BN-2A, and BN-2A Mark III series, Vulcanair (Partenavia) P-68, Piper Aerostar 600, 601, and 601P.
| On the following models equipped with 3-blade props:
| Short Brothers SC7 series 3, M7 Aerospace (Fairchild) SA26-T, SA26-AT, SA226-T, SA226-AT, and SA226-TC.
| The following models equipped with 70-amp alternators and Hartzell HC-A3XK props: Twin Commander (Gulfstream) 500B, 500S, and 500U.
| The following models equipped with 70-amp alternator and Hartzell HC-C3YR-2 props: Twin Commander (Gulfstream) 500S and 500U.
| The following model with 70- or 100-amp alternators and Hartzell HC-C3YR-R props: Twin Commander (Gulfstream) 500S (SN 3115 up).
| With STC SA2478SW on model Twin Commander (Gulfstream) 500.
| With STC SA2691WE or SA2891WE on the following models: Twin Commander (Gulfstream) 680F, 680FL, and 680FLP.
P4E1188-5 | Metal propellers operated up to 2,900 rpm on:
| With Hartzell HC-B3TN-3 props on Raytheon (Beech) D18C, D18S, E18S, E18S-9700, G18S, H18, C45G, C45H, TC45G, TC45H, C45J, TC45J (SN B-5), JRB-6, 99, 99A, A99, A99A, 99B, B99, 100, A100, A100A, A100C, and B100.
| With Hartzell HC-B3TN-3 props on Raytheon (Beech) 65-90, 65-A90, 65-A90-1, 65-A90-2, 65-A90-3, 65-A90-4, B90, C90, E90, and H90.
| With Hartzell HC-B3TN-3 props on Bombardier (deHavilland) DHC-6-300, Israel Aircraft Industries 101 Arava, Mitsubishi Heavy Industries MU-2B-10, -15, -20, -25, -26, -30, -35, -36, MU-2 Series, Pilatus PC-6, Piper PA-31T (SN 31T-7400002 up), and PA31T1.
| With STC SA2293SW on British Aerospace (Scotland) Handley Page Jetstream 137 Mark I.
| AeroSpace Technologies of Australia (Government Aircraft Factories) N22B.
| Short Brothers SC7 series 3 equipped with 4-blade props.
P4E1188-6 | Metal propellers operated up to 2,900 rpm on:
| With Hartzell HC-B3TN-5( ) props on Cessna 425 and 441.
| Embraer EMB-110P1 and 110P2.
| Short Brothers SC7 series 3 equipped with 3-blade props.
| M7 Aerospace (Fairchild) SA226-T, SA226-AT, and SA226-TC.
P4E1188-7 | Metal propellers operated up to 2,900 rpm on:
| Mitsubishi Heavy Industries MU-2B, MU-2B-26A, MU-2B-36A, MU-2B-40, and MU-2B-60.
P4E1601-3 | Metal propellers operated up to 2,900 rpm on:
| Piper PA31 (SN 5 up), PA31-300 (SN 5 up), PA31-325 (SN 5up), PA31P (SN 31P-3 up), and PA31-350 (SN 31-5001 up).
P4E1601-4 | Metal propellers operated up to 2,900 rpm on:
| Raytheon (Beech) 65-88.
P4E1601-5 | Metal propellers operated up to 2,900 rpm on:
| Casa C212CB.
| Twin Commander (Gulfstream) 690 and 690A.
P4E1601-7 | Metal propellers operated up to 2,900 rpm on:
| Raytheon (Beech) B55, E55, 56TC, 58P, and 60.
| With STC SA2369SW on Nord 262A.
| The following models equipped with 70- or 100-amp alternator and Hartzell HC-C3YR-2 props: Twin Commander (Gulfstream) 500S (SN 3115 up) and Twin Commander (Gulfstream) 685.
| Short Brothers SD3-30.
P4E1601-10 | Metal propellers operated up to 2,900 rpm on:
| Raytheon (Beech) B55, E55, 56TC, 58P, and 60.
| Twin Commander (Gulfstream) 690C and 695.
| M7 Aerospace (Fairchild) SA-226-TB, SA227-AC, SA227-TT, and SA227-AT.
P4E2200-2 | Metal propellers operated up to 2,900 rpm on:
| With STC SA00719LA on Raytheon (Beech) A36.
| With STC SA00718LA on Raytheon (Beech) B36TC.
| Raytheon (Beech) V35 equipped with 2- or 3-blade McCauley props.
P4E2200-3 | Metal propellers operated up to 2,900 rpm on:
| Raytheon (Beech) E50, F50, G50, H50, and J50.
| Cessna E310J, T310P, 310, 310E, 310J, 310K, 310L, 310N, 320, 320D, 320F, 40, 402A, 402B, 411, 411A, 414, 421, 421A, and 421B.
| Piper PA23-250.
P4E2200-4 | Metal propellers operated up to 2,900 rpm on:
| B-N Group Ltd. (Britten Norman) BN-2A Mark III, BN-2, BN-2A.
| Piper 600, 601, 601P.
P4E2200-10 | Metal propellers operated up to 2,900 rpm on:
| With Volpar Turboliner conversion on the following models: Raytheon (Beech) D18C and D18S.
| Raytheon (Beech) 56TC, A56TC, 65-90, 65-A90, B90, C90, E90, H90, 99, A99, 99A, B99, 99B, 100, A100, A100A, A100C, B100, and 200.
| Embraer EMB 110P1 and 110P2.
| Mitsubishi Heavy Industries MU-2B, MU-2B-10, MU-2B-15, MU-2B-20, MU-2B-25, MU-2B-30, and MU-2B-35.
| Pilatus PC-6.
| Piper PA31-350 (SN 5001 up) and PA31P (SN 31P-3 up).
| M7 Aerospace (Fairchild) SA26-T, SA26-AT, SA226-T, SA226TC, and SA226AT.
| Twin Commander (Gulfstream) 500B, 500U, 560F, 680F, 680FP, 680FL, and 680FLP.
P4E2200-21 | Metal propellers operated up to 2,900 rpm with STC SA812NE on the following models:
| Raytheon (Beech) 65-90 series, B90, C90, E90, F90, H90, 99 A99 series, C99, 100, A100 series, B100, and 200.
| Embraer EMB110 series.
| M7 Aerospace (Fairchild) SA226-AT, SA226-T, and SA-226TC.
| Mitsubishi Heavy Industries MU-2B, MU-2B-10, MU-2B-15, MU-2B-20, MU-2B-25, MU-2B-26, MU-2B-30, MU-2B-35, and MU-2B-36.
| Pilatus PC-6, PC-6B-H2, PC-6B1-H2, PC-6C-H2, PC-6C1-H2, and PC-7. Piper PA-31T, PA-31T1, PA-31T1A, PA-31T2A, PA-31T3, and PA-31T-1040.
P4E2271-10 | Metal propellers operated up to 2,900 rpm on:
| B-N Group Ltd. (Britten-Norman) BN-2, BN-2A series, and BN-2A Mark III.
| With Volpar Turboliner conversion on the following models: Raytheon (Beech) D18C, and D18S.
| The following models equipped with 2- or 3-blade props: S35, V35, V35A, V35B, 35-C33A, F33A, F33C, and A36.
| Raytheon (Beech) E50, F50, G50, H50, J50, E55, E55A, 56TC, A56TC, 58, 58A, 60, A60, B60, 65-90, 65-A90, B90, C90, E90, H90, 95-B55, 95-B55A, 99, A99, A99A, 99A, 100, A100, A100A, A100C, B100, and 200.
| With STC SA00966CH on Raytheon (Beech) C90B
| With STC SA3593NM on Raytheon (Beech) E90.
| With STC SA4131NM on Raytheon (Beech) F90.
| With STC SA2698NM on the following models: Raytheon (Beech) 200 and B200.
| Cessna 310, 310J, 310K, 310L, 310N, E310J, T310P, 320D, 320E, 320F, 340, 401A, 401B, 402A, 402B, 411, 411A, 414A, 414B, 421A, and 421B.
| With STC SA3532NM on Bombardier (deHavilland) DHC-6.
| With STC SA2369SW on Nord 262A.
| Mitsubishi Heavy Industries MU-2B-10, MU-2B-15, MU-2B-20, MU-2B-25, MU-2B-26A, MU-2B-30, MU-2B-35, MU-2B-36A, MU-2B-40, and MU-2B-60.
| Piper PA23, PA23-160, PA23-250, PA-E23-250 (SN 27-2505 UP), PA31 (SN 31-5 up), PA31-300 (SN 31-5 up), PA31-325 (SN 31-5 up), PA31-350 (SN 5001 up) PA34-200, PA34-200T, PA600, PA601, and PA601P.
| Pilatus PC-6.
| Short Brothers SD-3-30.
| M7 Aerospace (Fairchild) SA26-T, SA26-AT, SA226-T, SA226-AT, SA226TB, and SA226-TC.
| Twin Commander (Gulfstream) 500B, and 500U.
P4E2575-7 | Metal propellers operated up to 1,700 rpm on Raytheon (Beech) 300.
P4E2575-10 | Metal propellers operated up to 1,700 rpm on Raytheon (Beech) 300.
P4E2598-10 | Metal propellers operated up to 1,591 rpm on:
| AvCraft (Dornier) 228, M7 Aerospace (Fairchild) SA227-TT (SN 421-541), SA227-AT (SN 423-549), and SA227-AC (SN 420-545).
P5855BSW | Metal propellers on:
| Cessna T310Q, T310R, 340, 340A, 402B, 402C, 414, 414A, 421A, and 421B.
P6199SW | Metal propellers operated up to 2,900 rpm on:
| The following models equipped with McCauley D3A34C401 or D3A34C402 props: Cessna 210L, 210M, 210N, P210N, T210L, T210M, and T210N.
P6592SW | Metal propellers operated up to 2,900 rpm on:
| Various aircraft models equipped with McCauley 3AF32C504, 3AF32C505, 3AF32C506, or 3AF32C507 props.
P6662SW | Metal propellers operated up to 2,900 rpm on:
| Various aircraft models equipped with McCauley 3AF32C512/G-82NEA-5, 3AF32C511/G-82NEA-4, or 4HFR34C7 props.
P6975-11 | Metal propellers operated up to 2,900 rpm on:
| With STC SA812EA and equipped with Hartzell HC-B3TN-3D, HC-B3TN-5C, or HC-B3TN-5M props: Air Tractor, AT-302 and AT-400.
| With STC SA812EA and equipped with Hartzell HC-B3TN-3C or HC-B3TN-3D props: Quality Aerospace (Ayres) S2R-T11.
| With STC SA2204WE and equipped with Hartzell HC-B3TN-5C props: Raytheon (Beech) D18C, D18S, E18S-9700, C45G, C45H, TC-45G, TC-45H, and TC-45J.
| Raytheon (Beech) T-34C equipped with Hartzell HC-B3TN-3H props.
| The following models equipped with Hartzell HC-B3TN-2B, HC-B3TN-3B, or HC-B3TN-3M props: Raytheon (Beech) 65-90, 65-A-90, 65-A90-1, 65-A90-2, 65-A90-3, and 65-A90-4.
| The following models equipped with Hartzell HC-B3TN-3B or HC-B3TN-3M props: Raytheon (Beech) B90, C90, E90, and H90.
| Raytheon (Beech) F90 equipped with Hartzell HC-B4TN-3A or HC-B4TN-3B props.
| The following models equipped with Hartzell HC-B3TN-3B props: Raytheon (Beech) 99, 99A, A99, and A99A.
| The following models equipped with Hartzell HC-B3TN-3B or HC-B3TN-3M props: Raytheon (Beech) C99, and 100.
| The following models equipped with Hartzell HC-B4TN-3 or HC-4TN-3A props: Raytheon (Beech) A100, A100A, and A100-1.
| Raytheon (Beech) B100 equipped with Hartzell HC-B4TN-5C or HC-B4TN-5F props.
| The following models equipped with Hartzell HC-B3TN-3G or HC-B3TN-3N props: Raytheon (Beech) 200, 200C, 200CT, 200T, A200, A200C, A200CT, B200, B200C, B200CT, and B200T.
| Raytheon (Beech) JRB-6 with STC SA1171WE equipped with Hartzell HC-B3TN-5C props.
| British Aerospace HP.137MK.1 with STC SA2293WE equipped with Hartzell HC-B3TN-3D props.
| CASA C212-100 Aviocar equipped with Hartzell HC-B4TN-5EL props.
| Cessna 441 equipped with Hartzell HC-B3TN-5E or HC-B3TN-5M props.
| Bombardier (deHavilland) DHC-2MK.III equipped with HC-B3TN-3, HC-B3TN-3B, or HC-B3TN-3BY props.
| Bombardier (deHavilland) DHC-6-300 equipped with Hartzell HC-B3TN-3(D)(Y) props.
| Embraer EMB-110P1/2 equipped with Hartzell HC-B3TN-3C or HC-B3TN-3D props.
| The following models equipped with Hartzell HC-B3TN-5( ) props: M7 Aerospace (Fairchild) SA226-AT, and SA226T.
| M7 Aerospace (Fairchild) SA226-TC equipped with Hartzell HC-B4TN-5( ) props.
| M7 Aerospace (Fairchild) SA226-TC with STC SA344GL equipped with Hartzell HC-B3TN-5( ) props.
| M7 Aerospace (Fairchild) SA226-TC with STC SA344Gl.
| The following models equipped with Hartzell HC-A3VF-7 or HC-3VH-7B props: AeroSpace Technologies of Australia (Government Aircraft Factories) N22B and N24A.
| The following models equipped with Hartzell HC-B3TN-3D props: IAI Arava 101 and 101B.
| The following models equipped with Hartzell HC-B3TN-3DY props: McKinnon (Grumman) G-21E and G-21G.
| The following models equipped with HC-B3TN-5( ) props: Mitsubishi Heavy Industries MU-2B, and MU-2B-10.
| The following models equipped with Hartzell HC-B3TN-5 props: Mitsubishi Heavy Industries MU-2B-15, MU-2B-20, MU-2B-25, MU-2B-26, MU-2B-30, MU-2B-35, and MU-2B-36.
| The following models equipped with Hartzell HC-B3TN-3C props: Pilatus PC-6, PC-6/B-H2, PC-6/B1-H2, PC-6/C-H2, PC-6/C1-H2.
| The following models equipped with Hartzell HC-B3TN-3B props: Piper PA-31T and PA31T1.
| The following models equipped with Hartzell HC-B3TN-3B or HC-B3TN-3K props: Piper PA42 and PA42-720.
| The following model equipped with Hartzell HC-B3TN-5( ) props: Short Brothers SC-7 series 3 Variant 200.
| With STC SA02059AK on the following model equipped with HC-B4TN-5 props: Short Brothers SC-7 series 3 Variant 200.
| The following models equipped with Hartzell HC-B3TN-5( ) props: Twin Commander (Gulfstream) 690, 690A, and 690B.

Unsafe Condition

(d) This AD results from reports of Goodrich “FASTprop” propeller de-icers becoming loose or debonded, and detaching from propeller blades during operation. We are issuing this AD to prevent Goodrich “FASTprop” propeller de-icers from detaching from the propeller blade, resulting in damage to the airplane, and possible injury to passengers and crewmembers.

Compliance

(e) You are responsible for having the actions required by this AD performed within the compliance times specified unless the actions have already been done.

(f) Properly certificated maintenance personnel must perform the initial inspection required in this AD. Thereafter, the pilot or properly certificated maintenance personnel may perform the repetitive visual check.

Initial Visual Inspection of “FASTprop” Propeller De-Icers

(g) Within 10 hours after the effective date of this AD, inspect the “FASTprop” propeller de-icers. If any “FASTprop” propeller de-icer fails the inspection, then the “FASTprop” de-icer must be repaired or replaced as necessary before the next flight. Use paragraphs 2.A(3) through (5) of the Accomplishment Instructions of Goodrich De-icing and Specialty Systems Alert Service Bulletin (ASB) No. 30-60-00-1, dated November 15, 2004 to do these actions.

Repetitive Visual Inspections of “FASTprop” Propeller De-Icers

(h) After the initial inspection, visually check the “FASTprop” propeller de-icer once per day either during the pilot's first preflight inspection of the day or when maintenance personnel are available. If any “FASTprop” propeller de-icer fails the visual check, then the “FASTprop” de-icer must be inspected, repaired, or replaced as necessary before the next flight. Terminating action is accomplished when the “FASTprop” propeller de-icer is removed and replaced with an approved propeller de-icer. Use paragraph 2.A(2) of the Accomplishment Instructions of Goodrich De-icing and Specialty Systems Alert Service Bulletin (ASB) No. 30-60-00-1, dated November 15, 2004 to do these actions.

Alternative Methods of Compliance

(i) The Manager, Chicago Aircraft Certification Office, has the authority to approve alternative methods of compliance for this AD if requested using the procedures found in 14 CFR 39.19.

Special Flight Permits

(j) Under 14 CFR part 39.23, we are limiting the special flight permits for this AD by requiring that any propeller found with a loose or debonded “FASTprop” de-icer must have all propeller blade de-icers removed before the flight, to maintain a balanced propeller. Information on removing de-icers can be found in paragraph 1.K.(1) of Goodrich De-icing and Specialty Systems ASB No. 30-60-00-1, dated November 15, 2004.

Related Information

(k) None.

Material Incorporated by Reference

(l) You must use Goodrich De-icing and Specialty Systems Alert Service Bulletin No. 30-60-00-1, dated November 15, 2004, to perform the inspections, repairs, and replacements required by this AD. The Director of the Federal Register approved the incorporation by reference of this service bulletin in accordance with 5 U.S.C. 552(a) and 1 CFR part 51. Contact Goodrich De-icing and Specialty Systems, 1555 Corporate Woods Parkway, Uniontown, Ohio 44685, telephone (330) 374-3743, for a copy of this service information. You may review copies at the Docket Management Facility; U.S. Department of Transportation, 400 Seventh Street, SW., Nassif Building, Room PL-401, Washington, DC 20590-0001, on the Internet at http://dms.dot.gov, or at the National Archives and Records Administration (NARA). For information on the availability of this material at NARA, call (202) 741-6030, or go to: http://www.archives.gov/federal_register/code_of_federal_regulations/ibr_locations.html.

Issued in Burlington, Massachusetts, on September 1, 2005.
Peter A. White,
Acting Manager, Engine and Propeller Directorate, Aircraft Certification Service.

[FR Doc. 05-17773 Filed 9-8-05; 8:45 am]

BILLING CODE 4910-13-P